NATIONAL AERONAUTICS AND SPACE ADMINISTRATION

[Notice (03-053)]

NASA Advisory Council, Planetary Protection Advisory Committee; Meeting

AGENCY: National Aeronautics and Space Administration.

ACTION: Notice of meeting; supplementary information addition.

SUMMARY: In accordance with the Federal Advisory Committee Act, Public Law 92-463, as amended, the National Aeronautics and Space Administration announces an administrative oversight in the Supplementary Information previously provided for the forthcoming meeting of the NASA Advisory Council (NAC), Planetary Protection Advisory Committee (PPAC); Notice Number 03-051. This notice corrects that oversight by providing additional information.

DATES: Thursday, May 29, 2003, 6:30 p.m. to 9:15 p.m., Friday, May 30, 2003, 8:30 a.m. to 5 p.m., and Saturday, May 31, 2003, 8:30 a.m. to 2:30 p.m.

ADDRESSES: Hilton Cocoa Beach, 1550 North Atlantic Avenue, Cocoa Beach, Florida 32931.

FOR FURTHER INFORMATION CONTACT: Ms. Marian Norris, Code SB, National Aeronautics and Space Administration, Washington, DC 20546, 202/358-4452.

PREVIOUSLY ANNOUNCED SUPPLEMENTARY INFORMATION: The meeting will be closed to the public on Friday, May 30, 2003, 11 a.m. to noon, in accordance with the Government Sunshine Act, 5 U.S.C. 552b(c), to hear a briefing on Mars Planetary Protection issues associated with an ongoing procurement. All other times of the meeting will be open to the public up to the capacity of the room. The agenda for the meeting includes the following topics:

—Planetary Protection Program Status/Plans

—Mars Planetary Protection and Current Standards

—Communications Issues in Planetary Protection

—Solar System Exploration Planetary Protection Status

ADDITION TO SUPPLEMENTARY INFORMATION: The meeting will be closed to the public on Friday, May 30, 2003, 11 a.m. to 12:15 p.m., in accordance with section 10(d) of the Federal Advisory Committee Act (5 U.S.C. app.) (FACA) and the Government Sunshine Act, 5 U.S.C. 552b(c)(3) and 552b(c)(4), to hear a briefing on Mars Planetary Protection issues associated with an ongoing procurement and are exempt from public disclosure under 10 U.S.C. 2305(g). It is imperative that the meeting be held on these dates to accommodate the scheduling priorities of the key participants. Visitors will be requested to sign a visitor's register.

June W. Edwards,
Advisory Committee Management Officer, National Aeronautics and Space Administration.

[FR Doc. 03-12898 Filed 5-21-03; 8:45 am]

BILLING CODE 7510-01-P